ENVIRONMENTAL PROTECTION AGENCY

[FRL-8574-4]

Good Neighbor Environmental Board

AGENCY: Environmental Protection Agency (EPA).

ACTION: Notice of meeting.

SUMMARY: Under the Federal Advisory Committee Act, Pub. L. 92463, EPA gives notice of a meeting of the Good Neighbor Environmental Board. The Board meets three times each calendar year at different locations along the U.S.-Mexico border and in Washington, DC. It was created by the Enterprise for the Americas Initiative Act of 1992. An Executive Order delegates implementing authority to the Administrator of EPA. The Board is responsible for providing advice to the President on environmental and infrastructure issues and needs within the States contiguous to Mexico. The statute calls for the Board to have representatives from U.S. Government agencies; the States of Arizona, California, New Mexico and Texas; tribal representation; and a variety of non-governmental officials. The purpose of this meeting is to hear presentations on local environmental issues as well as the theme selected for the Board's Twelfth Report: Innovation, including Incentives, to Prevent/Reduce Pollution at the U.S. Mexico Border. The meeting also will include a public comment session and a business meeting on the second day. A copy of the meeting agenda will be posted at http://www.epa.gov/ocem/gneb.

DATES: The Good Neighbor Environmental Board will hold an open meeting on Wednesday, June 18, from 8:30 a.m. to 4 p.m. and Thursday, June 19, from 8:30 a.m. to 1 p.m.

ADDRESSES: The meeting will be held in the Imperial Valley Campus Library of San Diego State University, 720 Heber Avenue, Calexico, CA 92231. Telephone: (760) 768-5585. It is open to the public, with limited seating on a first-come, first-served basis.

FOR FURTHER INFORMATION CONTACT: Lorena Cedeño-Zambrano, Acting Designated Federal Officer, cedeno-zambrano.lorena@epa.gov, 202-566-0978, U.S. EPA, Office of Cooperative Environmental Management (1601M), 1200 Pennsylvania Avenue, NW., Washington, DC 20460.

SUPPLEMENTARY INFORMATION: Requests to make brief oral comments or provide written statements to the Board should be sent to Lorena Cedeño-Zambrano, Acting Designated Federal Officer, at the contact information above.

Meeting Access: For information on access or services for individuals with disabilities, please contact Lorena Cedeño-Zambrano at the contact information above. To request accommodation of a disability, please contact Lorena Cedeño-Zambrano, preferably at least 10 days prior to the meeting, to give EPA as much time as possible to process your request.

Dated: May 20, 2008.
Lorena Cedeño-Zambrano,
Acting Designated Federal Officer.

[FR Doc. E8-12267 Filed 5-30-08; 8:45 am]

BILLING CODE 6560-50-P